FEDERAL COMMUNICATIONS COMMISSION

47 CFR Part 73

[MM Docket Nos. 00-168 and 00-44; FCC 12-44]

Standardized and Enhanced Disclosure Requirements for Television Broadcast Licensee Public Interest Obligations; Extension of the Filing Requirement for Children's Television Programming Report (FCC Form 398)

AGENCY: Federal Communications Commission.

ACTION: Final rule; announcement of effective date.

SUMMARY: In this document, the Commission announces that the Office of Management and Budget (OMB) has approved, for a period of three years, the information collection associated with the Commission's Enhanced Disclosure Requirements, Second Report and Order (“Order”), FCC 12-44. This notice is consistent with the Order, which stated that the Commission would publish a document in the Federal Register announcing the effective date of those rules.

DATES: The amendments to 47 CFR 73.1212, 73.1943, 73.3526, 73.3527 and 73.3580, published at 77 FR 27631, May 11, 2012, are effective August 2, 2012.

FOR FURTHER INFORMATION CONTACT: Cathy Williams on (202) 418-2918, or email: cathy.williams@fcc.gov.

SUPPLEMENTARY INFORMATION: This document announces that, on June 21, 2012, OMB approved, for a period of three years, the information collection requirements relating to the enhanced disclosure requirement rules contained in the Commission's Order, FCC 12-44, published at 77 FR 27631, May 11, 2012. The OMB Control Numbers are 3060-0174 and 3060-0214. The Commission publishes this notice as an announcement of the effective date of the rules.

Synopsis

As required by the Paperwork Reduction Act of 1995 (44 U.S.C. 3507), the FCC is notifying the public that it received final OMB approval on June 21, 2012, for the information collection requirements contained in the modifications to the Commission's rules in 47 CFR part 73.

Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0174 and 3060-0214.

The foregoing notice is required by the Paperwork Reduction Act of 1995, Public Law 104-13, October 1, 1995, and 44 U.S.C. 3507.

The total annual reporting burdens and costs for the respondents are as follows:

OMB Control Number: 3060-0214.

OMB Approval Date: June 21, 2012.

OMB Expiration Date: June 30, 2015.

Title: Sections 73.3526 and 73.3527, Local Public Inspection Files; Sections 76.1701 and 73.1943, Political Files.

Respondents/Affected Parties: Business or other for-profit entities; not for-profit institutions; individuals or households.

Number of Respondents and Responses: 24,558 respondents; 59,056 responses.

Estimated Time per Response: 1 hour to 104 hours.

Frequency of Response: On occasion reporting requirement; Recordkeeping requirement; Third party disclosure requirement.

Obligation to Respond: Required to obtain or retain benefits. The statutory authority for this collection of information is contained in 47 U.S.C. 151, 152, 154(i), 303, 307 and 308.

Total Annual Burden: 2,158,080 hours.

Total Annual Costs: $882,236.00.

Privacy Act Impact Assessment: The FCC is preparing a PIA.

Nature and Extent of Confidentiality: The FCC is preparing a system of records, FCC/MB-2, “Broadcast Station Public Inspection Files,” to cover the personally identifiable information (PII) that may be included in the broadcast station public inspection files. Respondents may request materials or information submitted to the Commission be withheld from public inspection under 47 CFR 0.459 of the Commission's rules.

Needs and Uses: The Commission received final approval of the information collection requirements that were adopted in FCC 12-44 and contained in collection 3060-0214 from the Office of Management and Budget (OMB). On April 27, 2012, the Commission released a Second Report and Order, MB Docket Nos. 00-168 and 00-44; FCC 12-44. This Order adopted information collection requirements that support the Commission's public file rules that are codified at 47 CFR 73.3526 and 73.3527. 47 CFR 73.3526 and 73.3527 require that licensees and permittees of commercial and noncommercial AM, FM and TV stations maintain a file for public inspection at its main studio or at another accessible location in its community of license. The contents of the file vary according to type of service and status. The contents include, but are not limited to, copies of certain applications tendered for filing, a statement concerning petitions to deny filed against such applications, copies of ownership reports, statements certifying compliance with filing announcements in connection with renewal applications, a list of donors supporting specific programs, and a list of community issues addressed by the station's programming.

These rules also specify the length of time, which varies by document type, that each record must be retained in the public file. The public and FCC use the data to evaluate information about the licensee's performance and to ensure that station is addressing issues concerning the community to which it is licensed to serve.

The information collection requirements consist of:

Pursuant to 47 CFR 73.1943(d), television station licensees or applicants must place the contents of its political file on the Commission's Web site on a going-forward basis. Pursuant to 47 CFR 73.3526(b), commercial television station licensees or applicants must place the contents of their public inspection file as required by 47 CFR 73.3526(e) on the Commission's Web site, with the exception of letters and emails from the public as required by 47 CFR 73.3526(e)(9), which will be retained at the station. A station must also link to the public inspection file hosted on the Commission's Web site from the home page of its own Web site, if the station has a Web site. The Commission will automatically link the following items to the electronic version of all licensee and applicant public inspection files, to the extent that the Commission has these items electronically: Authorizations, applications, contour maps; ownership reports and related materials; portions of the Equal Employment Opportunity file held by the Commission; the public and broadcasting; Children's television programming reports; and DTV transition education reports.

Pursuant to 47 CFR 73.3527(b) non-commercial educational television station licensees or applicants must place the contents of their public inspection file as required by 47 CFR 73.3527(e) on the Commission's Web site. A station must also link to the public inspection file hosted on the Commission's Web site from the home page of its own Web site, if the station has a Web site. The Commission will automatically link the following items to the electronic version of all licensee and applicant public inspection files, to the extent that the Commission has these items electronically: Contour maps; ownership reports and related materials; portions of the Equal Employment Opportunity file held by the Commission; and the public and broadcasting.

OMB Control Number: 3060-0174.

OMB Approval Date: June 21, 2012.

OMB Expiration Date: June 30, 2015.

Title: Sections 73.1212, 76.1615 and 76.1715, Sponsorship Identification.

Form Number: N/A.

Type of Review: Revision of a currently approved collection.

Respondents/Affected Parties: Business or other for profit entities; individuals or households.

Number of Respondents and Responses: 22,761 respondents and 1,831,610 responses.

Estimated Time per Response: .0011 to .2011 hours.

Frequency of Response: Recordkeeping requirement; third party disclosure; on occasion reporting requirement.

Total Annual Burden: 242,633 hours.

Total Annual Costs: $33,828.

Obligation to Respond: Required to obtain or retain benefits. The statutory authority for this collection is contained in sections 4(i), 317 and 507 of the Communications Act of 1934, as amended.

Nature and Extent of Confidentiality: The FCC is preparing a system of records, FCC/MB-2, “Broadcast Station Public Inspection Files,” to cover the personally identifiable information (PII) that may be included in the broadcast station public inspection files. Respondents may request materials or information submitted to the Commission be withheld from public inspection under 47 CFR 0.459 of the Commission's rules.

Privacy Impact Assessment(s): The FCC is preparing a PIA.

Needs and Uses: The Commission received final approval of the information collection requirements that were adopted in FCC 12-44 and contained in collection 3060-0174 from the Office of Management and Budget (OMB). On April 27, 2012, the Commission released a Second Report and Order, MB Docket Nos. 00-168 and 00-44; FCC 12-44. This Second Report and Order adopted information collection requirements that will change the availability of record disclosures under 47 CFR 73.1212. 47 CFR 73.1212(e) states that, when an entity rather than an individual sponsors the broadcast of matter that is of a political or controversial nature, the licensee is required to retain a list of the executive officers, or board of directors, or executive committee, etc., of the organization paying for such matter in its public file.

The information collection requirements consist of:

Pursuant to the changes contained in 47 CFR 73.1212(e), this list, which could contain personally identifiable information, would be located in a public file to be located on the Commission's Web site instead of being maintained in the public file at the station. Burden estimates for this change are included in OMB Control Number 3060-0214.

Federal Communications Commission.
Marlene H. Dortch,
Secretary, Office of the Secretary, Office of Managing Director.

[FR Doc. 2012-16246 Filed 7-2-12; 8:45 am]

BILLING CODE 6712-01-P